DEPARTMENT OF COMMERCE

National Oceanic and Atmospheric Administration

RIN 0648-XH026

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will convene on Monday, June 3 through Thursday, June 6, 2019.

ADDRESSES: The meeting will take place at Sandestin Golf and Beach Resort, located at 9300 Emerald Coast Parkway West, Miramar Beach, FL 32550; telephone: (850) 267-8000.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, June 3, 2019; 8:30 a.m.-5 p.m.

The meeting will begin in a Closed Session of the Full Council from approximately 8:30 a.m.-9:15 a.m. to select members to the Data Collection and Coral Advisory Panels (AP). Immediately following, committee sessions will begin mid-morning at 9:30 a.m. with Data Collection Committee reviewing the proposed Data Collection AP Charge; discussing Commercial Fishing Unique Trip Identifiers; and, receiving a presentation on Southeast For-Hire Integrated Electronic Reporting (SEFHIER) Implementation Plan.

Following lunch, the Sustainable Fisheries Committee will discuss modernizing the Recreational Fisheries Management Act of 2018; discuss Allocation Issues; review Final Action: Generic Amendment—Carryover Provisions and Framework Modifications; and discuss the two-day Possession Limit on Federal For-Hire Trips. The Habitat Protection and Restoration Committee will review the permitting process for Siting of Artificial Reefs and Aquaculture Operations in Federal Waters; and, receive a presentation on Manna Fish Farms, Gulf of Mexico Finfish Aquaculture Operations.

Immediately following Habitat Protection and Restoration Committee, there will be a Stakeholder Engagement Workshop hosted by the University of Southern Mississippi on Manna Fish Farms, Gulf of Mexico Finfish Aquaculture Operations that is opened to the public.

Tuesday, June 4, 2019; 8:30 a.m.-5:30 p.m.

The Reef Fish Committee will begin with review of Reef Fish Landings; receive a presentation on the Joint Enforcement Agreement; and, review Draft Amendment 36B: Modifications to Commercial Individual Fishing Quota (IFQ) Programs—Law Enforcement Technical Committee Discussion, NOAA Office of Law Enforcement Penalties Presentation, and Quota Bank Presentation.

After lunch, the Reef Fish Committee will reconvene and discuss taking final action on Framework Action to Modify Greater Amberjack Commercial Trip Limits; Draft Framework Action to Modify the Recreational For-hire Red Snapper Annual Catch Target Buffer; Public Hearing Draft Amendment 51: Establish Gray Snapper Status Determination Criteria, Reference Points, and Modify Annual Catch Limits; and, Commercial Crew Size Requirements.

National Marine Fisheries Services (NMFS) will hold a Question and Answer Session immediately following Reef Fish Committee.

Wednesday, June 5, 2019; 8:30 a.m.-5:30 p.m.

The meeting will begin with a presentation on proposed Highly Migratory Species (HMS) Management Actions.

The Gulf SEDAR Committee will receive a summary from the May 2019 SEDAR Steering Committee Meeting; and, review of Gulf of Mexico SEDAR Schedule.

Full Council will re-convene at approximately 10:45 a.m. the with a Call to Order, Announcements, and Introductions; followed by an Adoption of Agenda and Approval of Minutes. The Council will present the 2018 Law Enforcement Officer of the Year Award; review of Exempted Fishing Permit (EFP) Applications; public comments on EFP Applications (if any); and, receive a presentation on Florida Law Enforcement Efforts.

After lunch, the Council will hold public comment testimony beginning at 2 p.m. until 5:30 p.m., EDT for the following items: Final Action: Generic Amendment—Carryover the Annual Catch Limits (ACL) of Unharvested Quota; Final Action: Greater Amberjack Framework Action to Modify Greater Amberjack Commercial Trip Limits; and, open testimony on any other fishery issues or concerns. Anyone wishing to speak during public comment testimony should sign in at the registration station located at the entrance to the meeting room.

Thursday, June 6, 2019; 8:30 a.m.-3 p.m.

The Council will receive reports from the following management committees: Habitat Protection and Restoration, Highly Migratory Species, Data Collection, Sustainable Fisheries, and Gulf SEDAR. The Council will announce the Data Collection and Coral AP appointments; and, receive the Reef Fish Management Committee report. After lunch, the Council will vote on Exempted Fishing Permit (EFP) applications, if any; and receive updates from the following supporting agencies: South Atlantic Fishery Management Council; NOAA Office of Law Enforcement (OLE), Gulf States Marine Fisheries Commission; U.S. Coast Guard; U.S. Fish and Wildlife Service; and, the Department of State.

Lastly, the Council will discuss any Other Business items.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid should be directed to Kathy Pereira, (813) 348-1630, at least 5 days prior to the meeting date.

Dated: May 6, 2019.
Tracey L. Thompson,
Acting Deputy Director, Office of Sustainable Fisheries, National Marine Fisheries Service.

[FR Doc. 2019-09591 Filed 5-8-19; 8:45 am]

BILLING CODE 3510-22-P